DEPARTMENT OF THE INTERIOR

Bureau of Reclamation

[DES-05-80]

Upper Rio Grande Basin Water Operations Review

AGENCY: Bureau of Reclamation, Interior.

ACTION: Notice of Availability and Notice of Public Meetings for the Draft Environmental Impact Statement for the Upper Rio Grande Basin Water Operations Review.

SUMMARY: Pursuant to the National Environmental Policy Act (NEPA) of 1969 (as amended), the Bureau of Reclamation (Reclamation), with and on behalf of other joint-lead agencies (U.S. Army Corps of Engineers [Corps], Department of Defense; and the New Mexico Interstate Stream Commission [Commission], State of New Mexico), has prepared a draft environmental impact statement (DEIS) to assess the consequences of proposed changes to water operations in the Rio Grande basin above Fort Quitman, Texas. The DEIS is programmatic and is not intended to authorize specific projects that may also be applied to the upper Rio Grande system. It is anticipated that a plan for water operations at existing Reclamation and Corps facilities will be developed.

The DEIS presents alternatives with respect to water operations and evaluates the environmental, economic, and social effects of these alternatives. Some of the alternatives considered include changing the channel capacity criteria at Albuquerque, storage or non-storage of Rio Grande water in authorized San Juan-Chama space in Abiquiu Reservoir, and operation of the Low Flow Conveyance Channel.

DATES: A 60-day public review period commences with the publication of this notice. Comments on the DEIS should be submitted no later than Tuesday, March 21, 2006, to Ms. Valda Terauds, Bureau of Reclamation, Albuquerque Area Office, 555 Broadway NE., Suite 100, Albuquerque, New Mexico 87102. Comments may also be submitted electronically at: http://www.spa.usace.army.mil/urgwops/.

The joint-lead agencies will conduct eight public meetings to obtain public input on the DEIS. All of the meetings will take place from 6 p.m. to 9 p.m. The public meetings schedule is as follows:

• February 21, 2006, 6-9 p.m., International Boundary and Water Commission, 4171 North Mesa, El Paso, Texas;

• February 22, 2006, 6-9 p.m., Mesilla Valley Inn, 901 Avenida de Mesilla, Las Cruces, New Mexico;

• February 23, 2006, 6-9 p.m., Ranchers Steak House, 606 North California Street, Socorro, New Mexico;

• February 28, 2006, 6-9 p.m., Indian Pueblo Cultural Center, 2401 12th Street NW., Albuquerque, New Mexico;

• March 1, 2006, 6-9 p.m., Radisson Hotel, 750 North St. Francis, Santa Fe, New Mexico;

• March 2, 2006, 6-9 p.m., Espanola Public Library, Richard Lucero Center, 313 North Paseo de Onate, Espanola, New Mexico;

• March 8, 2006, 6-9 p.m., Corps Abiquiu Res. Office, 2.5 Mile Highway 95, Abiquiu, New Mexico; and

• March 9, 2006, 6-9 p.m., U.S. Department of Agriculture, Rural Development, 101 South Craft Drive, Alamosa, Colorado.

ADDRESSES: The DEIS is electronically available for viewing and copying at the Corps' Albuquerque District Web site at: http://www.spa.usace.army.mil/urgwops/. Alternatively, a compact disc or hard copy is available upon written request to Ms. Valda Terauds, Bureau of Reclamation, Albuquerque Area Office, 555 Broadway NE., Suite 100 Albuquerque, New Mexico 87102.

Copies of the DEIS are available for public inspection and review at the following locations:

• Bureau of Reclamation, Albuquerque Area Office, 555 Broadway NE., Suite 100, Albuquerque, New Mexico 87102;

• Southern Peaks Public Library, 423 4th Street, Alamosa, Colorado 81101;

• Taos Public Library, 402 Camino de la Placita, Taos, New Mexico 87571;

• City of Española Library, 405 Paseo de Onate, Espanola, New Mexico 87532;

• Albuquerque Main Library, 501 Copper NW., Albuquerque, New Mexico 87102;

• Santa Fe Public Library, 145 Washington Street, Santa Fe, New Mexico 87501;

• El Paso Public Library, Clardy Fox Branch, 5515 Robert Alva Avenue, El Paso, Texas 79905;

• Thomas Branigan Memorial Library, 200 East Picacho Avenue, Las Cruces, New Mexico 88001; and

• Socorro Public Library, 401 Park Street, Socorro, New Mexico 87801.

FOR FURTHER INFORMATION CONTACT: Ms. Valda Terauds, Bureau of Reclamation, Albuquerque Area Office, 555 Broadway NE., Suite 100, Albuquerque, New Mexico 87102; telephone 505-462-3584; facsimile 505-462-3593; e-mail: vterauds@uc.usbr.gov.

Ms. April Sanders, U.S. Army Corps of Engineers Albuquerque District, 4101 Jefferson Plaza NE., Albuquerque, New Mexico, 87109; telephone 505-342-3443; facsimile 505-342-3195; e-mail: april.f.sanders@usace.army.mil.

Mr. Nabil Shafike, Ph.D., New Mexico Interstate Stream Commission, 121 Tijeras NE., Suite 2000, Albuquerque, New Mexico 87102; telephone 505-764-3866; facsimile 505-764-3893; e-mail: nabil.shafike@state.nm.us.

SUPPLEMENTARY INFORMATION: Pursuant to various legal authorities, and subject to allocation of supplies and priority of water rights under state law, Reclamation and the Corps operate dams, reservoirs, and other facilities in the upper Rio Grande basin to:

(1) Store and deliver water for agricultural, domestic, municipal, industrial, and environmental uses;

(2) Assist the Commission in meeting downstream water delivery obligations mandated by the Rio Grande Compact;

(3) Provide flood protection and sediment control; and

(4) Comply with existing laws, contract obligations, and international treaties.

The Upper Rio Grande Basin Water Operations Review (Review) provides the basis of, and is integral to, preparation of the DEIS. The purpose of the Review and DEIS is to:

(1) Identify flexibilities in operation of federal reservoirs and facilities in the upper Rio Grande basin that are within existing authorities of Reclamation, the Corps, and the Commission, and in compliance with federal and state laws;

(2) Develop a better understanding of how these facilities could be operated more efficiently and effectively as an integrated system;

(3) Formulate a plan for future water operations at these facilities that is within the existing authorities of Reclamation, the Corps, and the Commission; complies with federal, state, and other applicable laws and regulations; and assures continued safe dam operations;

(4) Improve processes for making decisions about water operations through better interagency communication and coordination, and facilitation of public review and input; and

(5) Support compliance by the Corps, Reclamation, and the Commission with applicable law and regulations, including, but not limited to, the National Environmental Policy Act and the Endangered Species Act.

The DEIS addresses water operations at the following facilities with the noted exceptions and limitations:

• Flood control operations at Platoro Reservoir (the Review and EIS will include only flood control operations at Platoro that are under Corps authority; water supply operations at Platoro are under local control)

• Closed Basin Division—San Luis Valley Project

• Heron Dam and Reservoir

• Abiquiu Dam and Reservoir

• Cochiti Dam and Reservoir

• Low Flow Conveyance Channel

• Flood control operations at Elephant Butte Dam and Reservoir (because of current litigation, water supply operations at Elephant Butte are not included in the Review or DEIS)

• Flood control operations at Caballo Dam and Reservoir (because of current litigation, water supply operations at Caballo are not included in the Review or DEIS).

Public Disclosure

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: January 10, 2006.
Rick L. Gold,
Regional Director—Bureau of Reclamation, Upper Colorado Region.

[FR Doc. 06-470 Filed 1-19-06; 8:45 am]

BILLING CODE 4310-MN-P